DEPARTMENT OF DEFENSE

Department of the Navy

[Docket ID: USN-2022-HQ-0011]

Proposed Collection; Comment Request

AGENCY: Department of the Navy, Department of Defense (DoD).

ACTION: 60-Day information collection notice.

SUMMARY: In compliance with the Paperwork Reduction Act of 1995, the Naval Health Research Center announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 21, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Naval Medical Center San Diego at 34800 Bob Wilson Drive, San Diego, CA 92134, ATTN: Dr. Kristen Walter, or call 619-553-0546.

SUPPLEMENTARY INFORMATION: Title; Associated Form; and OMB Number: Personalized Web-Based Sexual Assault Prevention for Service Members; OMB Control Number 0703-0080.

Needs and Uses: The aim of this study is to assist in the adaptation of an existing web-based sexual assault prevention program for college men and women, for use among the Navy population. To achieve this aim, data will be collected in several ways and respondents will participate in only one type of data collection. First, responses to a normative survey will provide information about the behavior and attitudes of Sailors regarding alcohol use and sexual assault. Next, focus groups and interviews will be conducted to obtain feedback about the content of the intervention and ways to adapt it for Sailors. Interviewees and focus group respondents will be selected based on their drinking habits, which will be determined by a brief pre-interview/focus group survey. All data are anonymous, meaning that there is no way for us to match any personally identifiable information of any participant to their survey responses. After interview/focus group completion, a post-interview/focus group survey will be given to obtain non-personally-identifiable demographic and alcohol use information to be used as descriptive information, as well as data from standardized measures that assess respondents' opinions of the existing intervention. All surveys will be completed via a HIPAA compliant software. Data from these surveys will be incorporated into the intervention content and will help generate an adapted prototype of the sexual assault prevention program (+Change) for Sailors.

The results of these surveys will impact the Department of the Navy by documenting the feasibility, acceptability, satisfaction, and utility of a multi-pronged, individually tailored, and easily distributed prevention program that addresses the large problem of sexual assault, and the associated effects of alcohol for Sailors. In the long-term, this research benefits the readiness of the force by producing an easily disseminated high-quality sexual assault prevention program that can be implemented in multiple military settings and sustain evaluation in a larger clinical trial. This research can also have a secondary impact on reducing hazardous alcohol use among service members and can prevent the occurrence of alcohol use problems and associated negative health sequelae in service members. These long-term objectives are consistent with both DoD and the national public health priorities.

Affected Public: Individuals or households.

Sexual Assault Prevention in Service Members Normative Survey

Annual Burden Hours: 208.3.

Number of Respondents: 500.

Responses per Respondent: 1.

Annual Responses: 500.

Average Burden per Response: 25 minutes.

Interview/Focus Group and Pre/Post Surveys

Annual Burden Hours: 152.25.

Number of Respondents: 87.

Responses per Respondent: 3.

Annual Responses: 261.

Average Burden per Response: 35 minutes.

Frequency: Once per respondent.

Dated: April 14, 2022.
Aaron T. Siegel,
Alternate OSD Federal Register Liaison Officer, Department of Defense.

[FR Doc. 2022-08447 Filed 4-19-22; 8:45 am]

BILLING CODE 5001-06-P